DEPARTMENT OF COMMERCE

National Oceanic and Atmospheric Administration

Proposed Information Collection; Comment Request; Alaska Region BSAI Crab Permits

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 5, 2007.

ADDRESSES: Direct all written comments to Diana Hynek, Departmental Paperwork Clearance Officer, Department of Commerce, Room 6625, 14th St. and Constitution Avenue, NW., Washington, DC 20230 (or via the Internet at dHynek@doc.gov).

FOR FURTHER INFORMATION CONTACT: Requests for additional information or copies of the information collection instruments and instructions should be directed to Patsy A. Bearden, 907-586-7008 or patsy.bearden@noaa.gov.

SUPPLEMENTARY INFORMATION:

I. Abstract

Under the authority of the Magnuson-Stevens Fishery Conservation and Management Act, National Marine Fisheries Service (NMFS), Alaska Region manages the crab fisheries, in the waters off the coast of Alaska, under the Fishery Management Plan for Bering Sea and Aleutian Islands Management Area (BSAI) Crab through the Crab Rationalization Program (Program). BSAI crab resources are allocated among harvesters, processors, and coastal communities. This collection-of-information addresses the permits, transfers, and cost recovery procedures for the Program. Implementing regulations may be found at 50 CFR part 680.

II. Method of Collection

The applications can be completed on-screen, printed, and submitted by mail, fax, or hand delivery. However, some applications require notary certification and therefore cannot be faxed. The cost recovery information may be submitted online.

III. Data

OMB Number: 0648-0514.

Form Number: None.

Type of Review: Regular submission.

Affected Public: Business or other for-profit organizations.

Estimated Number of Respondents: 1,480.

Estimated Time per Response: 2 hours to complete and submit Application for Crab Quota Share (QS) and Processor Quota Share (PQS); 2 hours to complete and submit Application for Crab Individual Fishing Quota (IFQ) Permit or Crab Individual Processor Quota (IPQ) permit; 2 hours and 30 minutes to complete and submit Application for Crab Harvesting Cooperative IFQ Permit; 30 minutes to complete and submit Application for Registered Crab Receiver (RCR) Permit; 30 minutes to complete and submit Application for Crab IFQ Hired Master; 21 minutes to complete and submit Application for Federal Crab Vessel Permit; 2 hours and 30 minutes to complete and submit Application To Become an Eligible Crab Community Organization (ECCO); 2 hours to complete and submit Application for Eligibility To Receive Crab QS/IFQ or PQS/IPQ by Transfer; 2 hours to complete and submit Application for Transfer of QS, IFQ, and IPQ; 2 hours to complete and submit Application for Transfer of Crab QS/IFQ to or From an ECCO; 2 hours to complete and submit Application for Inter-cooperative Transfer; 30 minutes to complete and submit RCR Fee Submission; 40 hours to prepare and submit Right of First Refusal Provisions (ROFR) Contracts; 30 minutes to complete and submit a ROFR Waiver; and 4 hours to complete and submit an appeal on NMFS decisions.

Estimated Total Annual Burden Hours: 8,466.

Estimated Total Annual Cost to Public: $ 31,742.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 30, 2007.
Gwellnar Banks,
Management Analyst, Office of the Chief Information Officer.

[FR Doc. E7-17537 Filed 9-4-07; 8:45 am]

BILLING CODE 3510-22-P